SECURITIES AND EXCHANGE COMMISSION

Proposed Collection; Comment Request

Upon Written Request, Copies Available From: Securities and Exchange Commission, Office of Filings and Information Services, Washington, DC 20549.

Extension:

Form N-SAR; SEC File No. 270-292; OMB Control No. 3235-0330.

Notice is hereby given that pursuant to the Paperwork Reduction Act of 1995 (44 U.S.C. 3501 et seq.) (“PRA”), the Securities and Exchange Commission (the “Commission”) is soliciting comments on the collections of information summarized below. The Commission plans to submit these existing collections of information to the Office of Management and Budget (“OMB”) for extension and approval.

• Form N-SAR—Semi-Annual Report for Registered Investment Companies

Form N-SAR is the form used by all registered investment companies with the exception of face amount certificate companies, to comply with the periodic filing and disclosure requirements imposed by Section 30 of the Investment Company Act of 1940 [15 U.S.C. 80a-1 et seq.], and of rules 30a1-1 and 30b1-1 under the Act. The information required to be filed with the Commission assures the public availability of the information and permits verification of compliance with Investment Company Act requirements. Registered unit investment trusts are required to provide this information on an annual report filed with the Commission on Form N-SAR (OMB Control No. 3235-0330) pursuant to rule 30a1-1 under the Investment Company Act [17 CFR 30a1-1], and registered management investment companies must submit the required information on a semi-annual report on Form N-SAR pursuant to rule 30b1-1 under the Act [17 CFR 270.30b1-1].¹

¹ Face amount certificate companies are required to file periodic reports pursuant to Section 13 or 15(d) of the Exchange Act [15 U.S.C. 78m, 78o(d)].

The Commission estimates that the total number of respondents is 4,130 and the total annual number of responses is 7,430 ((3,300 respondents X 2 responses per year) + (830 respondents X 1 response per year)). The Commission estimates that each registrant filing a report on Form N-SAR would spend, on average, 14.43 hours in preparing and filing the Form and that the total hour burden for all Form N-SAR filings would be 107,203 hours. Estimates of the burden hours are made solely for the purposes of the PRA, and are not derived from a comprehensive or even a representative survey or study of the costs of Commission rules and forms.

Written comments are invited on: (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Office of Information Technology, Securities and Exchange Commission, 100 F Street, NE., Washington, DC 20549.

February 2, 2006.
Nancy M. Morris,
Secretary.

[FR Doc. E6-1833 Filed 2-9-06; 8:45 am]

BILLING CODE 8010-01-P